COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products previously furnished by the nonprofit agency employing persons who are blind or have other severe disabilities.

DATES: Comments Must Be Received on or Before: 9/15/2014.

ADDRESSES: Committee for Purchase From People Who Are Blind or Severely Disabled, 1401 S. Clark Street, Suite 10800, Arlington, Virginia 22202-4149.

FOR FURTHER INFORMATION OR TO SUBMIT COMMENTS CONTACT: Patricia Briscoe, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products

Computer Accessories

NSN: 6150-00-NIB-0005.

NSN: 6150-00-NIB-0006.

NPA: Wiscraft, Inc., Milwaukee, WI.

Contracting Activity: General Services Administration, New York, NY.

Patricia Briscoe,
Deputy Director, Business Operations, (Pricing and Information Management).

[FR Doc. 2014-19396 Filed 8-14-14; 8:45 am]

BILLING CODE 6353-01-P